ENVIRONMENTAL PROTECTION AGENCY

[FRL OP-OFA-173]

Environmental Impact Statements; Notice of Availability

Responsible Agency: Office of Federal Activities, General Information 202-564-5632 or https://www.epa.gov/nepa.

Weekly receipt of Environmental Impact Statements (EIS)

Filed March 31, 2025 10 a.m. EST Through April 7, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250038, Final, TxDOT, TX, SH 68 from I-2/US 83 to I-69C/US 281, Review Period Ends: 05/12/2025, Contact: Doug Booher 512-416-2663.

EIS No. 20250039, Final, USACE, OR, Willamette Valley System Operations and Maintenance, Review Period Ends: 05/12/2025, Contact: Liz Oliver 503-808-4712.

Dated: April 7, 2025.
Nancy Abrams,
Associate Director, Office of Federal Activities.

[FR Doc. 2025-06192 Filed 4-10-25; 8:45 am]

BILLING CODE 6560-50-P